COMMISSION ON CIVIL RIGHTS

Sunshine Act Meeting Notice

AGENCY: United States Commission on Civil Rights.

ACTION: Notice of Commission public business meeting.

DATES: February 28, 2020, 10 a.m. ET.

ADDRESSES: Meeting to take place by telephone.

FOR FURTHER INFORMATION CONTACT: Mauro Morales: 202-376-7796; TTY 202-376-8116; publicaffairs@usccr.gov.

SUPPLEMENTARY INFORMATION: This business meeting is open to the public by telephone only: 1-800-667-5617, Conference ID-769-4649 Persons with disabilities who need accommodation should contact Pamela Dunston at (202) 376-8105 or at access@usccr.gov at least seven (7) business days before the scheduled date of the meeting.

Meeting Agenda

I. Approval of Agenda

II. Business Meeting

A. Discussion and vote on timeline, discovery plan, and outline for Commission project on bail reform

B. Management and Operations

• Staff Director's Report

III. Adjourn Meeting

Dated: February 18, 2020.
David Mussatt,
Supervisory Chief, Regional Programs Unit.

[FR Doc. 2020-03539 Filed 2-19-20; 11:15 am]

BILLING CODE P